DEPARTMENT OF HOMELAND SECURITY

Federal Emergency Management Agency

[FEMA-1745-DR]

Tennessee; Amendment No. 2 to Notice of a Major Disaster Declaration

AGENCY: Federal Emergency Management Agency, DHS.

ACTION: Notice.

SUMMARY: This notice amends the notice of a major disaster declaration for the State of Tennessee (FEMA-1745-DR), dated February 7, 2008, and related determinations.

EFFECTIVE DATE: February 20, 2008.

FOR FURTHER INFORMATION CONTACT: Peggy Miller, Disaster Assistance Directorate, Federal Emergency Management Agency, 500 C Street, SW., Washington, DC 20472, (202) 646-2705.

SUPPLEMENTARY INFORMATION: The notice of a major disaster declaration for the State of Tennessee is hereby amended to include the following areas among those areas determined to have been adversely affected by the catastrophe declared a major disaster by the President in his declaration of February 7, 2008.

Fayette County for Individual Assistance and Public Assistance.

Hardin, Macon, Madison, Shelby, and Sumner Counties for Public Assistance Categories C-G (already designated for Individual Assistance and debris removal and emergency protective measures [Categories A and B] under the Public Assistance program.)

Benton, Hickman, Houston, Lewis, Perry, Trousdale, and Williamson Counties for Public Assistance (already designated for Individual Assistance.)

Haywood and McNairy Counties for Public Assistance.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households in Presidential Declared Disaster Areas; 97.049, Presidential Declared Disaster Assistance—Disaster Housing Operations for Individuals and Households; 97.050, Presidential Declared Disaster Assistance to Individuals and Households—Other Needs, 97.036, Disaster Grants—Public Assistance (Presidentially Declared Disasters); 97.039, Hazard Mitigation Grant.)

R. David Paulison,
Administrator, Federal Emergency Management Agency.

[FR Doc. E8-3957 Filed 2-29-08; 8:45 am]

BILLING CODE 9110-10-P